DEPARTMENT OF ENERGY

Federal Energy Regulatory Commission

Combined Notice of Filings #1

Take notice that the Commission received the following electric corporate filings:

Docket Numbers: EC22-49-000.

Applicants: Pixelle Specialty Solutions Holding LLC.

Description: Supplement to April 1, 2022 Joint Application for Authorization Under Section 203 of the Federal Power Act of Pixelle Specialty Solutions Holding LLC, et al.

Filed Date: 4/18/22.

Accession Number: 20220418-5544.

Comment Date: 5 p.m. ET 4/28/22.

Docket Numbers: EC22-55-000.

Applicants: Sierra Pacific Power Company, Nevada Power Company.

Description: Joint Application for Authorization Under Section 203 of the Federal Power Act of Sierra Pacific Power Company, et al.

Filed Date: 4/18/22.

Accession Number: 20220418-5531.

Comment Date: 5 p.m. ET 5/9/22.

Take notice that the Commission received the following exempt wholesale generator filings:

Docket Numbers: EG22-100-000.

Applicants: LI Solar Generation, LLC.

Description: Notice of Self-Certification of Exempt Wholesale Generator Status of LI Solar Generation, LLC.

Filed Date: 4/18/22.

Accession Number: 20220418-5487.

Comment Date: 5 p.m. ET 5/9/22.

Take notice that the Commission received the following Complaints and Compliance filings in EL Dockets:

Docket Numbers: EL22-53-000.

Applicants: UBS Asset Management Inc.

Description: Petition for Declaratory Order of [UBS Asset Management Inc.

Filed Date: 4/14/22.

Accession Number: 20220414-5270.

Comment Date: 5 p.m. ET 5/16/22.

Take notice that the Commission received the following electric rate filings:

Docket Numbers: ER20-2550-003.

Applicants: Midcontinent Independent System Operator, Inc.

Description: Midcontinent Independent System Operator, Inc. submits tariff filing per 35.19a(b): Refund Report_Entergy Mississippi, LLC to be effective N/A.

Filed Date: 4/18/22.

Accession Number: 20220418-5511.

Comment Date: 5 p.m. ET 5/9/22.

Docket Numbers: ER21-1794-001.

Applicants: Midcontinent Independent System Operator, Inc.

Description: Midcontinent Independent System Operator, Inc. submits tariff filing per 35.19a(b): Refund Report White Oak Energy LLC to be effective N/A.

Filed Date: 4/18/22.

Accession Number: 20220418-5513.

Comment Date: 5 p.m. ET 5/9/22.

Docket Numbers: ER22-871-001.

Applicants: Jicarilla Solar 2 LLC.

Description: Notice of Non-Material Change in Status of Jicarilla Solar 2 LLC.

Filed Date: 4/18/22.

Accession Number: 20220418-5545.

Comment Date: 5 p.m. ET 5/9/22.

Docket Numbers: ER22-1095-000.

Applicants: KCE NY 6, LLC.

Description: Supplement to February 22, 2022 KCE NY 6, LLC tariff filing.

Filed Date: 4/7/22.

Accession Number: 20220407-5237.

Comment Date: 5 p.m. ET 4/28/22.

Docket Numbers: ER22-1657-000.

Applicants: Evergy Kansas Central, Inc., Evergy Kansas South, Inc.

Description: Application for the Establishment and Recovery of Regulatory Assets of Evergy Kansas Central, Inc., et al.

Filed Date: 4/15/22.

Accession Number: 20220415-5345.

Comment Date: 5 p.m. ET 5/6/22.

Docket Numbers: ER22-1658-000.

Applicants: Southwest Power Pool, Inc.

Description: § 205(d) Rate Filing: 2889 ITC Great Plains & Mid-Kansas Novation Cancellation to be effective 4/19/2022.

Filed Date: 4/19/22.

Accession Number: 20220419-5070.

Comment Date: 5 p.m. ET 5/10/22.

Docket Numbers: ER22-1659-000.

Applicants: Southwest Power Pool, Inc.

Description: § 205(d) Rate Filing: 3945 Skyview Wind Project and ITC Great Plains E&P Agreement to be effective 3/31/2022.

Filed Date: 4/19/22.

Accession Number: 20220419-5105.

Comment Date: 5 p.m. ET 5/10/22.

Docket Numbers: ER22-1660-000.

Applicants: PacifiCorp.

Description: § 205(d) Rate Filing: ESM Const Agmt Jim Bridger BAA Move Corrected to be effective 4/20/2022.

Filed Date: 4/19/22.

Accession Number: 20220419-5187.

Comment Date: 5 p.m. ET 5/10/22.

Docket Numbers: ER22-1661-000.

Applicants: Duke Energy Florida, LLC.

Description: Tariff Amendment: DEF- Winter Park Termination of RS No. 257 to be effective 6/19/2022.

Filed Date: 4/19/22.

Accession Number: 20220419-5190.

Comment Date: 5 p.m. ET 5/10/22.

Docket Numbers: ER22-1662-000.

Applicants: GB II New York LLC.

Description: Compliance filing: Notice of Succession to be effective 4/20/2022.

Filed Date: 4/19/22.

Accession Number: 20220419-5225.

Comment Date: 5 p.m. ET 5/10/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 19, 2022.
Debbie-Anne A. Reese,
Deputy Secretary.

[FR Doc. 2022-08752 Filed 4-22-22; 8:45 am]

BILLING CODE 6717-01-P